DEPARTMENT OF AGRICULTURE

Commodity Credit Corporation

Information Collection: Assignments of Payment and Joint Payment Authorization

AGENCY: Commodity Credit Corporation, USDA.

ACTION: Notice; request for comments.

SUMMARY: In accordance with the Paperwork Reduction Act of 1995, the Commodity Credit Corporation (CCC) is seeking comments from all interested individuals and organizations on the extension of an approved information collection. The information collection is supporting the regulation of 7 CFR Part 1404, which provides for the voluntary assignment of cash payments made by Farm Service Agency or CCC to a third party. In addition, a payment recipient may voluntarily elect to have a cash payment made jointly to the payment recipient and a third party.

DATES: Comments on this notice must be received on or before January 9, 2006 to be assured consideration.

Addresses: Comments must be sent to Farm Service Agency, USDA, Attn: Deborah Simmons, Financial Specialist, FMD, Stop 0561, 1400 Independence Ave, SW., Washington, DC and to the Desk Officer for Agriculture, Office of Information and Regulatory Affairs, Office of Management and Budget, Washington, DC 20503. Comments may be also submitted by e-mail to: Debbie.Simmons@wdc.usda.gov or by fax to: (703) 305-1144. Copies of the information collection may be requested from Ms. Simmons at the above address.

FOR FURTHER INFORMATION CONTACT: Deborah Simmons, Financial Specialist, (703) 305-1309.

SUPPLEMENTARY INFORMATION:

Title: Assignment of Payments and Joint Payment Authorization.

Forms: CCC-36, “Assignment of Payment”, CCC-37, “Joint Payment Authorization”, CCC-251, “Notice of Assignment”, and CCC-252, “Instrument of Assignment”.

OMB Control Number: 0560-0183.

Type of Request: Extension.

Abstract: Section 4 (j) of the Commodity Credit Corporation Charter Act (15 U.S.C. 714b (j)) authorizes CCC to determine the character of and the necessity for its obligations and expenditures and the manner in which they shall be incurred, allowed, and paid. Pursuant to this authority, CCC allows producers to assign certain payments. Any such assignment must be made in accordance with the regulations of 7 CFR Part 1404. There are no regulations governing joint payments, but this service is offered as a result of public requests for this type of payment option.

Estimate of Respondent Burden: Public reporting burden for this collection of information is estimated to average 10 minutes per response for CCC-36, CCC-37, or CCC-251, or 5 minutes per response for CCC-252.

Respondents: Participants in FSA or CCC farm programs.

Estimated Number of Respondents: 50,000 for CCC-36; 20,000 for CCC-37, and 450 for CCC-251 or CCC-252.

Estimated Total Annual Burden on Respondents: 30 minutes (this estimate includes 20 minutes time for applicants to request forms from FSA or locate forms in the Web site).

Comments are invited regarding: (a) Whether the collection of information is necessary for the proper performance of the functions of the agency, including whether the information will have practical utility; (b) the accuracy of the agency's estimate of burden, including the validity of the methodology and assumptions used; (c) ways to enhance the quality, utility, and clarity of the information collected; and (d) ways to minimize the burden of the collection of the information on those who are to respond, including through the use of appropriate automated, electronic, mechanical, or other technological collection techniques or other forms of information technology.

All comments received in response to this notice, including names and addresses when provided, will be a matter of public record. Comments will be summarized and included in the submission for OMB approval.

Signed at Washington, DC, on November 2, 2005.
Teresa C. Lasseter,
Executive Vice President, Commodity Credit Corporation.

[FR Doc. 05-22277 Filed 11-8-05; 8:45 am]

BILLING CODE 3410-05-P